ENVIRONMENTAL PROTECTION AGENCY

[EPA-HQ-OPPT-2019-0456; FRL-12296-01-OMS]

Agency Information Collection Activities; Submission to the Office of Management and Budget for Review and Approval; Comment Request; Formaldehyde Emissions Standards for Composite Wood Products Act (Renewal)

AGENCY: Environmental Protection Agency (EPA).

ACTION: Notice.

SUMMARY: The Environmental Protection Agency (EPA) has submitted an information collection request (ICR), Formaldehyde Standards for Composite Wood Products Act (EPA ICR Number 2446.04 and OMB Control Number 2070-0185), to the Office of Management and Budget (OMB) for review and approval in accordance with the Paperwork Reduction Act (PRA). This is a proposed extension of the ICR, which is currently approved through September 30, 2024. Public comments were previously requested via the Federal Register on January 17, 2024 during a 60-day comment period. This notice allows for an additional 30 days for public comments.

DATES: Comments must be received on or before October 28, 2024.

ADDRESSES: Submit your comments, referencing Docket ID Number EPA-HQ-OPPT-2019-0456, to EPA online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Katherine Sleasman, Office of Program Support (7602M), Office of Chemical Safety and Pollution Prevention, Environmental Protection Agency, 1200 Pennsylvania Ave. NW, Washington, DC 20460; telephone number: (202) 566-1204; email address: sleasman.katherine@epa.gov.

SUPPLEMENTARY INFORMATION: This is a proposed extension of the ICR, which is currently approved through September 30, 2024. An agency may not conduct or sponsor and a person is not required to respond to a collection of information unless it displays a currently valid OMB control number.

Public comments were previously requested via the Federal Register on January 17, 2024, during a 60-day comment period (89 FR 2946). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public, visit http://www.epa.gov/dockets.

Abstract: This ICR covers the recordkeeping and reporting requirements for all aspects of the mandates in Title VI of the Toxic Substances Control Act (TSCA) and implementing regulations in 40 CFR part 770 for Formaldehyde Emission Standards for Composite Wood Products, including actions relating to accreditation bodies (ABs) and third-party certifiers (TPCs) that participate in the third-party certification program.

Form Number: 9600-049.

Respondents/affected entities: Entities potentially affected by this ICR include regulated entities (e.g., manufacturers (defined by statute to include importers) and processers of composite wood products) and participants in the third-party certification program.

Respondent's obligation to respond: Mandatory, per TSCA Title VI and 40 CFR part 770.

Estimated number of respondents: 992,758 (total).

Frequency of response: On occasion.

Total estimated burden: 456,295 hours (per year). Burden is defined at 5 CFR 1320.3(b).

Total estimated costs: $121,806,311 (per year), which includes $112,389,751 in annualized capital or operation & maintenance costs.

Changes in the Estimates: There is an overall increase of 345,066 hours in the total estimated respondent burden compared with the ICR currently approved by OMB. This change, which is discussed in more detail in the ICR, reflects revisions to the estimates for producers, TPCs and ABs; inclusion of 2,241 laminators still using resins that will be defined as hardwood plywood producers and will incur costs and burden starting in 2024; and revisions to labor and cost estimates to reflect 2022 and 2023 prices. These changes are considered to be adjustments.

Courtney Kerwin,
Director, Information Engagement Division.

[FR Doc. 2024-22197 Filed 9-26-24; 8:45 am]

BILLING CODE 6560-50-P